SOCIAL SECURITY ADMINISTRATION

20 CFR Part 402

[Regulation No. 2; Docket No. SSA-2007-0020]

RIN 0960-AG46

Technical Amendments To Correct Cross-References

AGENCY: Social Security Administration.

ACTION: Correcting amendments.

SUMMARY: This document contains three technical corrections to our regulations. We are changing three cross-references because they are currently incorrect.

EFFECTIVE DATE: Effective on March 29, 2007.

FOR FURTHER INFORMATION CONTACT: Rosemarie A. Greenwald, Social Insurance Specialist, Office of Regulations, Social Security Administration, 6401 Security Boulevard, Baltimore, MD 21235-6401. Call (410) 966-7813 or TTY 1-800-325-0778 for information about these correcting amendments. For information on eligibility or filing for benefits, call our national toll-free numbers 1-(800)-772-1213 or TTY 1-(800)-325-0778. You may also contact Social Security online at http://www.socialsecurity.gov/.

SUPPLEMENTARY INFORMATION: We are making corrections to our current regulations at 20 CFR 402.35(b)(2) which contain errors. The three cross-references in the last sentence of § 402.35(b)(2) incorrectly show §§ 404.984(b), 410.610c(b) and 416.1484(b). We are changing these to reflect the correct cross-references.

(Catalog of Federal Domestic Assistance Programs Nos. 96.001 Social Security—Disability Insurance; 96.002 Social Security—Retirement Insurance; 96.004 Social Security—Survivors Insurance and 96.006 Supplemental Security Income.

List of Subjects in 20 CFR Part 402

Administrative practice and procedure; Freedom of information.

Dated: March 21, 2007.
Paul Kryglik,
Acting SSA Regulations Officer.

For the reasons set out in the preamble, part 402 of chapter III of title 20 of the Code of Federal Regulations is corrected by making the following correcting amendments:

PART 402—AVAILABILITY OF INFORMATION AND RECORDS TO THE PUBLIC

1. The authority citation for part 402 continues to read as follows:

Authority: Secs. 205, 702(a)(5), and 1106 of the Social Security Act; (42 U.S.C. 405, 902(a)(5), and 1306); 5 U.S.C. 552 and 552a; 8 U.S.C. 1360; 18 U.S.C. 1905; 26 U.S.C. 6103; 30 U.S.C. 923(b); 31 U.S.C. 9701; E.O. 12600, 52 FR 23781, 3 CFR, 1987 Comp., p. 235.

2. Section 402.35 is corrected by revising the last sentence of paragraph (b)(2) to read as follows:

§ 402.35 Publication.

* * * * *

(b) * * *

(2) * * * For a description of Social Security Acquiescence Rulings, see 20 CFR 404.985(c), 410.670c(b), and 416.1485(c) of this title.

* * * * *

[FR Doc. E7-5494 Filed 3-28-07; 8:45 am]

BILLING CODE 4191-02-P